DEPARTMENT OF JUSTICE

Antitrust Division

Notice Pursuant to the National Cooperative Research and Production Act of 1993—Electronic Industries Alliance

Notice is hereby given that, on September 16, 2004, pursuant to section 6(a) of the National Cooperative Research and Production Act of 1993, 15 U.S.C. 4301 et seq. (“the Act”), Electronic Industries Alliance (“EIA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Electronic Industries Alliance, Arlington, VA. The nature and scope of EIA's standards development activities are: The development and maintenance of voluntary industry standards and related documents, formulation of positions for presentation on behalf of the United States in international standards fora, and preparation of technical information and reports for use by industry and government, on behalf of manufacturers of electronic products and providers of services to said manufacturers and consumers.

Dorothy B. Fountain,
Deputy Director of Operations, Antitrust Division.

[FR Doc. 04-25846 Filed 11-19-04; 8:45 am]

BILLING CODE 4410-11-M